DEPARTMENT OF LABOR

Employment and Training Administration

[TA-W-58,625]

Cadence Innovation; Formerly Known as New Venture Industries and Experience Management; Holly Road Facility; Grand Blanc, MI; Amended Certification Regarding Eligibility To Apply for Worker Adjustment Assistance and Alternative Trade Adjustment Assistance

In accordance with Section 223 of the Trade Act of 1974 (19 U.S.C. 2273), and Section 246 of the Trade Act of 1974, as amended (19 U.S.C. 2813), the Department of Labor issued a Certification of Eligibility to Apply for Worker Adjustment Assistance and Alternative Trade Adjustment Assistance on February 23, 2006, applicable to workers of Cadence Innovation, formerly known as New Ventures Industries and Experience Management, Holly Road Facility, Grand Blanc, Michigan. The notice was published in the Federal Register on March 22, 2006 (71 FR 14549).

At the request of petitioners, the Department reviewed the certification for workers of the subject firm. The workers produce program rocker panels (automotive trim).

The Department inadvertently limited the certification to workers engaged in employment related to the production of program rocker panels. Since the workers are not separately identifiable by product, the Department intended to include all workers of the firm. Accordingly, the Department is amending the certification to correct.

The amended notice applicable to TA-W-58,625 is hereby issued as follows:

All workers of Cadence Innovation, formerly known as New Ventures Industries and Experience Management, Holly Road Facility, Grand Blanc, Michigan, who became totally or partially separated from employment on or after January 11, 2005 through February 23, 2008, are eligible to apply for adjustment assistance under Section 223 of the Trade Act of 1974, and are also eligible to apply for alternative trade adjustment assistance under Section 246 of the Trade Act of 1974.

Signed at Washington, DC, this 6th day of July 2006.
Linda G. Poole,
Certifying Officer, Division of Trade Adjustment Assistance.

[FR Doc. E6-11220 Filed 7-14-06; 8:45 am]

BILLING CODE 4510-30-P